DEPARTMENT OF JUSTICE

Antitrust Division

Notice Pursuant to the National Cooperative Research and Production Act of 1993—The National Advanced Mobility Consortium, Inc.

Notice is hereby given that, on October 10, 2024, pursuant to section 6(a) of the National Cooperative Research and Production Act of 1993, 15 U.S.C. 4301 et seq. (“the Act”), The National Advanced Mobility Consortium, Inc. (“NAMC”) has filed written notifications simultaneously with the Attorney General and the Federal Trade Commission disclosing changes in its membership. On February 3, 2015, the RTC officially changed its name to NAMC. The notifications were filed for the purpose of extending the Act's provisions limiting the recovery of antitrust plaintiffs to actual damages under specified circumstances.

Specifically, Abaco Systems Inc., Huntsville, AL; ACP Technologies, LLC, St. Clair Shores, MI; Acutronic USA, Inc, Pittsburgh, PA; AEF-Performance, LLC, Picayune, MS; AIVOT Robotics, Inc., Seattle, WA; All Foam Products Co, Middlefield, OH; Amazon Web Services, Seattle, WA; American Lithium Energy Corporation, Carlsbad, CA; American Tooling Center, Inc., Lansing, MI; Amphenol Borisch Technologies, Grand Rapids, MI; Ascent AeroSystems, Wilmington, MA; ATA Engineering, Inc, San Diego, CA; ATI, Arlington, VA; AVL Mobility Technologies, Inc., Plymouth, MI; Banks Technologies, Azusa, CA; Beast Code, LLC., Fort Walton Beach, FL; Belding Tool and Machine, Belding, MI; Bevilacqua Research Corporation, Huntsville, AL; BlueSky Mast, Inc., Largo, FL; Bosch Rexroth Corporation, Bethlehem, PA; Buffalo Armory Group, LLC, Buffalo, NY; Cambium Biomaterials, Mojave, CA; Canis Automotive Labs Inc, Highlands Ranch, CO; Canoo Technologies Inc., Torrance, CA; Clear Align, Eagleville, PA; Compound Eye Inc., Redwood City, CA; Computer Access Technologies, LLC, Colorado Springs, CO; CoVar, McLean, VA; Cryptic Vector, Liberty Township, OH; CTC Enterprise Ventures Corporation, Johnstown, PA; Cubic Defense Applications Inc., San Diego, Ca; Cummings Aerospace, Inc., Huntsville, AL; Curtiss Wright 901D, Monsey, NY; Curtiss-Wright (Teletronics Technology Corp), Newtown, PA; CVX Instruments, LLC, Charlevoix, MI; D-2 Incorporated, Bourne, MA; D'Angelo Technologies, LLC, Dayton, OH; Detroit Manufacturing Systems, LLC., Detroit, MI; Diversified Technologies, Inc., Bedford, MA; Doodle Labs, LLC, Marina Del Rey, CA; DTCUBED, LLC, Sewell, NJ; Duality Robotics, Inc., San Mateo, CA; Dynetics, Inc., Huntsville, AL; Easy Aerial, Brooklyn, NY; ELC Industries, d.b.a. Aurora Defense Group, Aurora, IL; Emelody Worldwide Inc., Peachtree Corners, GA; esc Aerospace US, Inc., Orlando, FL; Florida Institute for Human & Machine Cognition, Pensacola, FL; FN America, LLC, MCLEAN, VA; Galley Power Inc, Hudson, MA; GE Aviation Systems, LLC, Grand Rapids, MI; General Technical Services, LLC, Wall Township, NJ; HDT Expeditionary Systems, Inc., Operating through its BLADE division, Fredericksburg, VA; Highland Engineering, Inc, Howell, MI; HII Unmanned Systems, Inc., Pocasset, MA; Hoverfly Technologies Inc., Sanford, FL; HPTechAi, LLC, College Station, TX; IDV USA Inc., York, PA; Infrared (IR) Telemetrics, Inc., Hancock, MI; Kodiak Robotics, Inc., Mountain View, CA; Kord Technologies, LLC, Huntsville, AL; Latent AI, Skillman, NJ; Lawrence Technological University, Southfield, MI; Leonardo DRS AISR, Beavercreek, OH; Massie MFG., Inc., Baraga, MI; MAXISIQ, Lorton, VA; Menet Aero, Oak Creek, WI; Miltope Corporation, Hope Hull, AL; MOORE INTEGRITY ENGINEERING, LLC, SAN ANTONIO, TX; NOBLES WORLDWIDE, INC., St. Croix Falls, WI; Numerica Corporation, Fort Collins, CO; Oasis Advanced Engineering, Inc., Lake Orion, MI; Oceanit Laboratories, Inc., Honolulu, HI; Overland AI Inc, Seattle, WA; Palomar Display Products, Inc, Carlsbad, CA; Pilot Systems International, LLC, Farmington Hills, MI; Polymath Robotics, San Francisco, CA; Primordial Labs Inc., New Haven, CT; Raglan, Wilmington, NC; Raytheon BBN Technologies Corp, Cambridge, MA; Raytheon Technologies Corporation (RTRC), EAST HARTFORD, CT; Sabel Systems Technology Solutions, LLC, Beavercreek, OH; Safire Technology Group, Tysons, VA; SAPA Transmission, Shelby Township, MI; SECO USA, Inc., Rockville, MD; SecureCo, Inc., New York, NY; SeeByte Inc., San Diego, CA; Sentry View Systems, Inc, Melbourne, FL; Shift5, Inc., Rosslyn, VA; Skydex Technologies Inc, Centennial, CO; Smart Shooter Inc, Herndon, VA; Sparton Aydin, LLC, dba Aydin Displays, Birdsboro, PA; Swan Technology Corporation, Pittsburgh, PA; Swarmbotics AI, Scottsdale, AZ; Systems Innovation Engineering, LLC, Mullica Hill, NJ; T2S, LLC, Belcamp, MD; TeleSwivel, LLC, Durham, NC; TeraDAR, Inc., Cambridge, MA; ThayerMahan, Groton, CT; The MathWorks, Inc., Novi, MI; TrellisWare Technologies, Inc., San Diego, CA; TTTech North America, Inc., Andover, MA; Tucson Embedded Systems, Inc. (TES-i), Tucson, AZ; Ultra Electronics Advanced Tactical Systems, Inc., Austin, TX; Unmanned Systems Inc, dba Albers Aerospace, McKinney, TX; Vertex Modernization and Sustainment, a V2X Company, Indianapolis, IN; Vision Products, LLC, Campbell, CA; Wegmann USA, Inc., Lynchburg, VA; Wichita State University, Wichita, KS; Wright Electric Inc., Malta, NY, have been added as parties to this venture.

Also, ADI Technologies Inc., Chantilly, VA; All Foam Products Co, Middlefield, OH; Allied Defense, Sarasota, FL; Amerex Corporation, Trussville, AL; American Engineering Group, LLC, Akron, OH; Andromeda Systems Inc DUPLICATE, Jacksonville, FL; Applied Systems Engineering Inc. dba ASEI, Niceville, FL; Atlas Business Consulting, Inc., Southlake, TX; Bell Hellicopter Textron Inc., Hurst, TX; Citadel Defense Co, National City, CA; CITE Armored, Holly Springs, MS; CLogic Defense, Augusta, NJ; Compass Instruments, Inc., Sugar Grove, IL; Cornerstone Research Group, Miamisburg, OH; Cummins Corporate Research and Technology, Shoreview, MN; Czero Inc, Fort Collins, CO; DiSTI Corporation, Orlando, FL; Doodle Labs, LLC, Marina Del Rey, CA; Dynatrac Products Co., Inc., Huntington Beach, CA; Dynetics, Inc., Huntsville, AL; ELC Industries, d.b.a. Aurora Defense Group, Aurora, IL; Emelody Worldwide Inc., Peachtree Corners, GA; EngeniusMicro, Huntsville, AL; Enginuity Power Systems, Alexandria, VA; EnQuanta, Minneapolis, MN; Epirus Inc, Hawthorne, CA; esc Aerospace US, Inc., Orlando, FL; Essex Industries Inc, St. Louis, MO; Exyn Technologies, Philadelphia, PA; FSI Defense, Fort Worth, TX; GC Associates USA, LLC, Arlington, VA; General Kinetics, LLC, Bedford, NH; GK Mechanical Systems, LLC, Brookfield, CT; GRIMM, Stafford, VA; GuardKnox Cyber Technologies USA, Inc., Livonia, MI; Hawk Technologies, LLC, Hancock, MI; HIPPO POWER, LLC, dbaHIPPO MULTIPOWER, Kansas City, KS; HPTechAi, LLC, College Station, TX; Hupp and Associates Inc., dba Hupp Aerospace Defense, New Haven, IN; Indiana Mills & Manufacturing, Inc. (IMMI), Westfield, IN; IR Technologies (Impact Resources, Inc.), Bristow, VA; J.F. Taylor, Inc., Great Mills, MD; Leadtank Incorporated, dba RobosoftAI, Thousand Oaks, CA; Leonardo DRS AISR, Beavercreek, OH; Loch Harbour Group, Alexandria, VA; Logistic Services International, Inc., Jacksonville, FL; Mainstream Engineering Corporation, Rockledge, FL; Martin Technologies, New Hudson, MI; Menet Aero, Oak Creek, WI; Metawave Corporation, Carlsbad, CA; MIT Lincoln Laboratory, Lexington, MA; NOBLES WORLDWIDE, INC., St. Croix Falls, WI; Northrop Grumman Systems Corporation (Defense Systems), Huntsville, AL; NTL Industries Inc., Sterling Heights, MI; NVIDIA Corporation, Durham, NC; PacStar (Pacific Star Communications Inc), Portland, OR; Parts Life Inc, Moorestown, NJ; Pendar Technologies, LLC, Cambridge, MA; PPG Industries, Inc., Allison Park, PA; RE2, LLC, a wholly owned subsidiary of Sarcos, Pittsburgh, PA; ReLogic Research Inc., Huntsville, AL; Rocky Mountain Scientific Laboratory, Littleton, CO; Safe, Inc., Tempe, AZ; Smart Shooter Inc, Herndon, VA; Spark Insights, LLC, Tampa, FL; Squarehead Technology, LLC, Herndon, VA; Swift Engineering Inc., San Clemente, CA; Systel Inc., Sugar Land, TX; Telefactor Robotics, West Conshohocken, PA; The Armored Group, LLC, Phoenix, AZ; Ultra Advanced Tactical Systems, Austin, TX; Unmanned Systems Inc, dba Albers Aerospace, McKinney, TX; UVision-USA Corporation, Purcellville, VA; VISIMO, Coraopolis, PA; VTN Manufacturing Inc., Fremont, CA; Wulco, Inc dba Jet Machine, Cincinnati, OH, have withdrawn as parties to this venture.

No other changes have been made in either the membership or planned activity of the group research project. Membership in this group research project remains open, and NAMC intends to file additional written notifications disclosing all changes in membership.

On October 15, 2009, NAMC filed its original notification pursuant to section 6(a) of the Act. The Department of Justice published a notice in the Federal Register pursuant to section 6(b) of the Act on November 30, 2009 (74 FR 62599).

The last notification was filed with the Department on October 11, 2023. A notice was published in the Federal Register pursuant to section 6(b) of the Act on December 21, 2023 (88 FR 88411).

Suzanne Morris,
Deputy Director Civil Enforcement Operations, Antitrust Division.

[FR Doc. 2025-01249 Filed 1-17-25; 8:45 am]

BILLING CODE 4410-11-P